DEPARTMENT OF HOMELAND SECURITY

[Docket No. DHS-2024-0017]

Homeland Intelligence Advisory Board; Vacancies

AGENCY: Office of Intelligence and Analysis, Department of Homeland Security (DHS).

ACTION: Request for applicants for appointment to the Homeland Intelligence Advisory Board “the Board.”

SUMMARY: The Office of Intelligence and Analysis (I&A) is accepting applications to fill vacancies on the Board. The Board advises the Under Secretary for Intelligence and Analysis and the Counterterrorism Coordinator regarding the Department's role in intelligence-related activities and the effective integration of the DHS Intelligence Enterprise.

DATES: I&A will accept applications until 11:59 p.m. eastern standard time on July 1, 2024.

ADDRESSES: I&A will not accept mailed applications. The sole method of submission is via email to HIAB@hq.dhs.gov.

FOR FURTHER INFORMATION CONTACT: Steven Cash, Designated Federal Officer and Senior Advisor to the Under Secretary for Intelligence and Analysis, Office of I&A, U.S. Department of Homeland Security, 202-282-9855, email HIAB@hq.dhs.gov.

SUPPLEMENTARY INFORMATION: Individuals who are interested in serving on the Board are invited to apply for consideration for appointment. Applications must include: (a) a cover letter identifying one or more representative categories, described below, for which the applicant is qualified by interest, experience and background, (b) a resume detailing the applicant's relevant experience for the position applied for, and (c) a brief biography. Applications should be submitted via email with subject line “The Board Vacancy Application” to HIAB@hq.dhs.gov. If there are aspects of diversity that you wish to describe or emphasize in support of your candidacy, please do so within your cover letter. Members of the Board are appointed by and serve at the pleasure of the Under Secretary, Office of Intelligence and Analysis. The Board membership selection and appointment process is designed to afford the Under Secretary the advisory input of the most capable, diverse, and novel perspectives that the country has to offer. The appointment will be for a term of up to 5 years, with the opportunity to be reappointed for one additional term. Individuals selected for the appointment will serve as Representatives (i.e., members qualified to represent the interests of a specific group, industry, or organization, by virtue of his or her employment, education, experience, or affiliation with a specific group, industry, or organization). The Secretary has established the Board pursuant to section 871(a) of the Homeland Security Act of 2002. In recognition of the sensitive nature of the subject matter involved, the Secretary exempted the Board from The Federal Advisory Committee Act (FACA), 5 U.S.C. ch. 10. The Board will meet as often as needed to fulfill its mission, but typically four times each fiscal year, to address its objectives and duties. Board members may be reimbursed for travel and per diem incurred in the performance of their duties as members of the Board. All travel for Board business must be approved in advance by the Designated Federal Officer. The Board will consist of up to 40 members who are appointed by and serve at the pleasure of the Under Secretary. In order for the Under Secretary to fully leverage broad-ranging experience and education, the Board must be diverse with regard to professional and technical expertise. DHS is committed to pursuing opportunities, consistent with applicable law, to compose a committee that reflects the diversity of the nation's people. In this solicitation for Board Members, we will consider applications for the following categories:

• National or Homeland Security including Intelligence Collection and Information Sharing.

• Privacy and Civil Liberties.

• State, Local, Tribal, Territorial, and Private Sector officials with Homeland Security Responsibilities.

• Law.

• Law Enforcement.

• Legislative Activities.

• Academia and Research Community.

• Owners and Operators of Critical Infrastructure or Resources.

Dated: June 6, 2024.
Steven A. Cash,
Designated Federal Officer, Homeland Intelligence Advisory Board, Department of Homeland Security.

[FR Doc. 2024-12846 Filed 6-11-24; 8:45 am]

BILLING CODE 9110-9N-P